NATIONAL SCIENCE FOUNDATION

Advisory Committee for Geosciences; Notice of Meeting

In accordance with the Federal Advisory Committee Act (Pub. L. 92-463, as amended), the National Science Foundation announces the following meeting:

Name: Advisory Committee for Geosciences (1755).

Dates:

November 19, 2008, 8:30 a.m.-5 p.m.

November 20, 2008, 8:30 a.m.-2 p.m.

Place: Stafford II, Room 555, National Science Foundation, 4201 Wilson Blvd., Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight concerning support for research, education, and human resources development in the geosciences.

Agenda:

November 19

Directorate Activities and Plans.

Discussion of Draft Strategic Plan.

Division Subcommittee Meetings.

Education & Diversity Subcommittee Meeting.

November 20

Earth Scope Briefing.

Meeting with the Director.

Planning for Spring Meeting.

Dated: October 14, 2008.
Susanne Bolton,
Committee Management Officer.

[FR Doc. E8-24657 Filed 10-16-08; 8:45 am]

BILLING CODE 7555-01-P